DEFENSE NUCLEAR FACILITIES SAFETY BOARD

Sunshine Act Notice

AGENCY: Defense Nuclear Facilities Safety Board.

ACTION: Notice of public business meeting.

SUMMARY: The Defense Nuclear Facilities Safety Board (Board) published a notice in the Federal Register of April 24, 2017 concerning a public business meeting on May 11, 2017, at the Board's headquarters located at 625 Indiana Avenue NW., Washington, DC 20004-2901. The Board supplements that notice by providing specific information for how the public may participate in the meeting.

FOR FURTHER INFORMATION CONTACT: Glenn Sklar, General Manager, Defense Nuclear Facilities Safety Board, 625 Indiana Avenue NW., Suite 700, Washington, DC 20004-2901, (800) 788-4016. This is a toll-free number.

SUPPLEMENTARY INFORMATION: In the Federal Register of April 24, 2017, in 82 FR 18902, the Board announced its intention to hold a public meeting at its headquarters on May 11, 2017. The Board has amended the public meeting agenda to provide a specific opportunity for members of the public to comment on the agenda item. The Board will invite public comment during the public comment period of the agenda on the Defense Nuclear Facilities Safety Board staff's effort to develop a potential scorecard regarding safety oversight of Defense Nuclear Facilities. The amended agenda is available on the Board's public Web site at https://www.dnfsb.gov/public-hearings-meetings/may-11-2017-public-business-meeting.

Persons interested in speaking during the public comment period are encouraged to pre-register by submitting a request to the Board by telephone to the Office of the General Counsel at (202) 694-7062 prior to close of business on May 10, 2017. The Board requests that commenters limit the nature and scope of their oral comments to the subject of the agenda. Those who pre-register will be scheduled to speak first. Individual oral comments may be limited by the time available, depending on the number of persons who register. At the beginning of the meeting, the Board will post a list of speakers at the entrance to the meeting room. Anyone who wishes to comment or provide technical information or data may do so in writing, either in lieu of, or in addition to, making an oral presentation. The Board Members may question presenters to the extent deemed appropriate.

Dated: May 1, 2017.
Joseph Bruce Hamilton,
Vice Chairman.

[FR Doc. 2017-08996 Filed 5-1-17; 4:15 pm]

BILLING CODE 3670-01-P